DEPARTMENT OF STATE

[Public Notice 3256]

Determination Under Section 508 of the Foreign Operations, Export Financing and Related Programs Appropriations Act, 2000 (Public Law 106-113)

Pursuant to Section 508 of the Foreign Operations, Export Financing and Related Programs Appropriations Act, 2000 (Pub. L. 106-113), and comparable provisions of law, and Section 1-201 of Executive Order 12163, as amended, I hereby determine that, subsequent to the military coup against the democratically elected Government of Niger on January 27, 1996, a new democratically elected government has assumed office, such that assistance for Niger is not prohibited by the aforementioned provision of law.

This Determination shall be reported to the Congress immediately and published in the Federal Register.

Dated: February 23, 2000.
Madeleine K. Albright,
Secretary of State, Department of State.

[FR Doc. 00-6540 Filed 3-15-00; 8:45 am]

BILLING CODE 4710-08-U